FEDERAL COMMUNICATIONS COMMISSION

47 CFR Part 21

[WT Docket No. 03-66; RM-10586; WT Docket No. 03-67; MM Docket No. 97-217; WT Docket No. 02-68; RM-9718; FCC 03-56]

Facilitate the Provision of Fixed and Mobile Broadband Access, Educational and Other Advanced Services in the 2150-2162 and 2500-2690 MHz Bands

AGENCY: Federal Communications Commission.

ACTION: Final rule; suspension of effectiveness.

SUMMARY: This document suspends construction deadlines for Multipoint Distribution Service (MDS) and Instructional Television Fixed Service (ITFS) authorization holders until the completion of a companion rulemaking proceeding. The MO&O also temporarily suspends acceptance of applications for new ITFS licenses and applications to amend or modify either ITFS or MDS stations in the 2500-2690 MHz band, subject to certain exceptions. The purpose of the MO&O is to ensure that the Federal Communications Commission (FCC) neither requires nor allows significant investments in new or modified facilities that would be inconsistent with new rules proposed in the companion NPRM.

DATES: Effective June 10, 2003, § 21.930 is suspended indefinitely.

FOR FURTHER INFORMATION CONTACT: Nancy Zaczek or Charles Oliver at (202) 418-0680, Public Safety and Private Wireless Division, Wireless Telecommunications Bureau or via the Internet to nzaczek@fcc.gov or coliver@fcc.gov.

SUPPLEMENTARY INFORMATION: This is a summary of the FCC's Memorandum Opinion and Order, FCC 03-56, adopted on March 13, 2003, and released on April 2, 2003. The full text of this document is available for inspection and copying during normal business hours in the FCC Reference Center, 445 12th Street, SW., Washington, DC 20554. The complete text may be purchased from the FCC's copy contractor, Qualex International, 445 12th Street, SW., Room CY-B402, Washington, DC 20554. The full text may also be downloaded at: http://www.fcc.gov. Alternative formats are available to persons with disabilities by contacting Brian Millin at (202) 418-7426 or TTY (202) 418-7365 or at bmillin@fcc.gov.

1. In this Memorandum Opinion and Order, the FCC:

• Temporarily suspends, until the completion of this rulemaking proceeding, acceptance of applications for new ITFS licenses and applications to amend or modify either ITFS or MDS stations in the 2500-2690 MHz band, subject to certain exceptions; and

• Suspends the current construction deadline for MDS and ITFS authorization holders until the completion of this rulemaking proceeding.

Ordering Clauses

2. Accordingly, it is ordered, pursuant to sections 1, 2, 4(i), 7, 10, 201, 214, 301, 302, 303, 307, 308, 309, 310, 319, 324, 332, 333 and 706 of the Communications Act of 1934, 47 U.S.C. 151, 152, 154(i), 157, 160, 201, 214, 301, 302, 303, 307, 308, 309, 310, 319, 324, 332, 333, and 706, that this Memorandum Opinion and Order is hereby adopted.

3. The five-year build-out requirement in § 21.930 of the FCC's rules, 47 CFR 21.930, is suspended until further notice.

4. The build-out requirements for site-based ITFS and MDS licensees and permittees that have not expired as of the release date of this Memorandum Opinion and Order are suspended until further notice.

5. Applications for new ITFS licenses, major modifications of MDS stations, or changes to ITFS stations other than minor modifications, applications for license assignments or transfers of control will not be accepted until further notice.

6. Mutually exclusive ITFS applications for acceptance of settlement agreements filed after the release date of this Memorandum Opinion and Order will not be accepted.

Federal Communications Commission.
Marlene H. Dortch,
Secretary.

Rule Changes

For the reasons discussed in the preamble, the Federal Communications Commission suspends 47 CFR 21.930 indefinitely.

§ 21.930 [Suspended]

Section 21.930 is suspended indefinitely.

[FR Doc. 03-14221 Filed 6-9-03; 8:45 am]

BILLING CODE 6712-01-P